NATIONAL COUNCIL ON DISABILITY

Advisory Committee Meetings/Conference Calls

AGENCY: National Council on Disability (NCD).

SUMMARY: This notice sets forth the schedule of the forthcoming meetings/conference calls for working groups of NCD's advisory committees—International Watch. Notice of this meeting is required under section 10 (a)(1)(2) of the Federal Advisory Committee Act (Pub. L. 92-463).

International Watch: The purpose of NCD's International Watch is to share information on international disability issues and to advise NCD's Foreign Policy Team on developing policy proposals that will advocate for a foreign policy that is consistent with the values and goals of the Americans with Disabilities Act.

Work Group: International Convention on the Human Rights of People with Disabilities.

Dates and Times: October 4, 2001, 12:00 p.m.-1:00 p.m. EDT; November 1, 2001, 12:00 p.m.-1:00 p.m. EST; December 6, 2001, 12:00 p.m.-1:00 p.m. EST.

Work Group: Inclusion of People with Disabilities in Foreign Assistance Programs.

Dates and Times: October 18, 2001, 12:00 p.m.-1:00 p.m. EDT; November 15, 2001, 12:00 p.m.-1:00 p.m. EST; December 20, 2001, 12:00 p.m.-1:00 p.m. EST.

For International Watch Information, Contact: Kathleen A. Bank, Attorney Advisor, NCD, 1331 F Street NW, Suite 850, Washington, DC 20004; 202-272-2004 (Voice), 202-272-2074 (TTY) 202-272 -2022 (Fax), kblank@ncd.gov (e-mail).

Agency Mission: NCD is an independent federal agency composed of 15 members appointed by the President of the United States and confirmed by the U.S. Senate. Its overall purpose is to promote policies, programs, practices, and procedures that guarantee equal opportunity for all people with disabilities, regardless of the nature of severity of the disability; and to empower people with disabilities to achieve economic self-sufficiency, independent living, and inclusion and integration into all aspects of society.

This committee is necessary to provide advice and recommendations to NCD on international disability issues.

We currently have balanced membership representing a variety of disabling conditions from across the United States.

Open Meetings/Conference Calls: These advisory committee meetings/conference calls of NCD will be open to the public. However, due to fiscal constraints and staff limitations, a limited number of additional lines will be available. Individuals can also participate in the conference calls at the NCD office. Those interested in joining these conference calls should contact the appropriate staff member listed above.

Records will be kept of all International Watch meetings/conference calls and will be available after the meeting for public inspection at NCD.

Signed in Washington, DC, on August 17, 2001.
Mark S. Quigley,
Action Executive Director and Director of Communications.

[FR Doc. 01-21133 Filed 8-21-01; 8:45 am]

BILLING CODE 6820-MA-M